FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, December 18, 2018, to consider the following matters:

Summary Agenda: No substantive discussion of the following items is anticipated. These matters will be resolved with a single vote unless a member of the Board of Directors requests that an item be moved to the discussion agenda.

Disposition of Minutes of a Board of Directors' Meeting Previously Distributed.

Memorandum and resolution re: Notice of Proposed Rulemaking: Revisions to Prohibitions and Restrictions on Proprietary Trading and Certain Interests in, and Relationships With, Hedge Funds and Private Equity Funds.

Memorandum and resolution re: Final Rule: Regulatory Capital Rule: Implementation and Transition of the Current Expected Credit Losses Methodology for Allowances and Related Adjustments to the Regulatory Capital Rule and Conforming Amendments to Other Regulations.

Memorandum and resolution re: Notice of Proposed Rulemaking to (1) Rescind Regulations Transferred from the Former Office of Thrift Supervision, Part 390, Subpart P—Lending and Investment; (2) Amend Part 365, Subpart A—Real Estate Lending Standards; and (3) Rescind Part 365, Subpart B—Registration of Residential Mortgage Loan Originators.

Memorandum and resolution re: Notice of Proposed Rulemaking to Increase the Major Assets Threshold Under the Depository Institutions Management Interlocks Act.

Memorandum and resolution re: Final Rule: Technical Amendments to Depository Institutions Management Interlocks Act (DIMIA) Regulations.

Memorandum and resolution re: Final Rule: Expanded Exam Cycle for Certain Small Insured Depository Institutions and U.S. Branches and Agencies of Foreign Banks.

Memorandum and resolution re: Final Rule: Limited Exception for a Capped Amount of Reciprocal Deposits from Treatment as Brokered Deposits.

Memorandum and resolution re: Advanced Notice of Proposed Rulemaking Relating to Brokered Deposits.

Memorandum and resolution re: Notice of Proposed Rulemaking: Company-Run Stress Testing Requirements for FDIC-supervised State Nonmember Banks and State Savings Associations.

Memorandum and resolution re: Notice of Proposed Rulemaking: Revisions to the Deposit Insurance Assessment System.

Memorandum and resolution re: Designated Reserve Ratio for 2019.

Summary reports, status reports, and reports of actions taken pursuant to authority delegated by the Board of Directors.

Discussion Agenda

Memorandum and resolution re: Proposed 2019 Operating Budget.

Briefing: Update of Projected Deposit Insurance Fund Losses, Income, and Reserve Ratios for the Restoration Plan.

The meeting will be held in the Board Room located on the sixth floor of the FDIC Building located at 550 17th Street NW, Washington, DC.

This Board meeting will be Webcast live via the internet and subsequently made available on-demand approximately one week after the event. Visit http://fdic.windrosemedia.com to view the event. If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: December 12, 2018.
Federal Deposit Insurance Corporation.
Robert E. Feldman,
Executive Secretary.

[FR Doc. 2018-27229 Filed 12-12-18; 4:15 pm]

BILLING CODE P